SECURITIES AND EXCHANGE COMMISSION

[Investment Company Act Release No. 34292]

Notice of Applications for Deregistration Under Section 8(f) of the Investment Company Act of 1940

May 28, 2021.

The following is a notice of applications for deregistration under section 8(f) of the Investment Company Act of 1940 for the month of May 2021. A copy of each application may be obtained via the Commission's website by searching for the file number, or for an applicant using the Company name box, at http://www.sec.gov/search/search.htm or by calling (202) 551-8090. An order granting each application will be issued unless the SEC orders a hearing. Interested persons may request a hearing on any application by emailing the SEC's Secretary at Secretarys-Office@sec.gov and serving the relevant applicant with a copy of the request by email, if an email address is listed for the relevant applicant below, or personally or by mail, if a physical address is listed for the relevant applicant below. Hearing requests should be received by the SEC by 5:30 p.m. on June 22, 2021, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary at Secretarys-Office@sec.gov.

ADDRESSES: The Commission: Secretarys-Office@sec.gov.

FOR FURTHER INFORMATION CONTACT: Shawn Davis, Assistant Director, at (202) 551-6413 or Chief Counsel's Office at (202) 551-6821; SEC, Division of Investment Management, Chief Counsel's Office, 100 F Street NE, Washington, DC 20549-8010.

A&Q Masters Fund [File No. 811-22859]

Summary: Applicant, a closed-end investment company, seeks an order declaring that it has ceased to be an investment company. The applicant has transferred its assets to A&Q Long/Short Strategies Fund LLC., and on March 31, 2021 made a final distribution to its shareholders based on net asset value. Expenses of $383,202.32 incurred in connection with the reorganization were paid by the acquiring fund.

Filing Date: The application was filed on April 7, 2021.

Applicant's Address: frank.pluchino@ubs.com.

Schroder Global Series Trust [File No. 811-21364]

Summary: Applicant seeks an order declaring that it has ceased to be an investment company. On February 25, 2021, applicant made a liquidating distribution to its shareholders based on net asset value. Expenses of approximately $54,000 incurred in connection with the liquidation were paid by the applicant.

Filing Date: The application was filed on April 21, 2021.

Applicant's Address: sean.graber@morganlewis.com.

Van Kampen Debt Opportunity Fund [File No. 811-22296]

Summary: Applicant, a closed-end investment company, seeks an order declaring that it has ceased to be an investment company. Applicant has never made a public offering of its securities and does not propose to make a public offering or engage in business of any kind.

Filing Dates: The application was filed on November 23, 2020 and amended on March 25, 2021.

Applicant's Address: Taylor.Edwards@invesco.com.

Van Kampen Global Equity Dividend & Income Fund [File No. 811-22134]

Summary: Applicant, a closed-end investment company, seeks an order declaring that it has ceased to be an investment company. Applicant has never made a public offering of its securities and does not propose to make a public offering or engage in business of any kind.

Filing Dates: The application was filed on November 23, 2020 and amended on March 25, 2021.

Applicant's Address: Taylor.Edwards@invesco.com.

Western Asset Corporate Loan Fund Inc. [File No. 811-08985]

Summary: Applicant, a closed-end investment company, seeks an order declaring that it has ceased to be an investment company. On November 30, 2020, applicant made a liquidating distributions to its shareholders based on net asset value. Expenses of $66,131 incurred in connection with the liquidation were paid by the applicant's investment adviser, or their affiliates

Filing Date: The application was filed on April 1, 2021.

Applicant's Address: George.Hoyt@franklintempleton.com.

Western Asset Middle Market Debt Fund Inc. [File No. 811-22734]

Summary: Applicant, a closed-end investment company, seeks an order declaring that it has ceased to be an investment company. On December 22, 2020, applicant made a liquidating distributions to its shareholders based on net asset value. Expenses of $13,411 incurred in connection with the liquidation were paid by the applicant.

Filing Date: The application was filed on March 18, 2021.

Applicant's Address: George.Hoyt@franklintempleton.com.

Western Asset Variable Rate Strategic Fund Inc. [File No. 811-21609]

Summary: Applicant, a closed-end investment company, seeks an order declaring that it has ceased to be an investment company. On November 30, 2020, applicant made a liquidating distributions to its shareholders based on net asset value. Expenses of $66,056 incurred in connection with the liquidation were paid by the applicant's investment adviser, or their affiliates.

Filing Date: The application was filed on April 1, 2021.

Applicant's Address: George.Hoyt@franklintempleton.com.

For the Commission, by the Division of Investment Management, pursuant to delegated authority.
J. Matthew DeLesDernier,
Assistant Secretary.

[FR Doc. 2021-11715 Filed 6-3-21; 8:45 am]

BILLING CODE 8011-01-P